DEPARTMENT OF LABOR

Office of the Secretary

Strengthening Labor Systems in Central America; Establishing Worker Rights Centers

AGENCY: Bureau of International Labor Affairs, Department of Labor.

Announcement Type: New. Notice of Availability of Funds and Solicitation for Cooperative Agreement Applications.

Funding Opportunity Number: SGA XX-XX.

Catalog of Federal Domestic Assistance (CFDA) Number: Not applicable.

Key Dates: The closing date for receipt of applications is February 23, 2007. Applications must be received by 4:45 p.m. (Eastern Time) at the address below.

ADDRESSES: Application forms will not be mailed. They are published as part of this Federal Register notice and in the Federal Register, which may be obtained from your nearest U.S. Government office or public library or online at http://www.archives.gov/federal_register/index.html. Applications must be delivered to: U.S. Department of Labor, Procurement Services Center, 200 Constitution Avenue, NW., Room N-5416, Attention: Lisa Harvey, Reference: SGA XX-XX, Washington, DC 20210.

EXECUTIVE SUMMARY: This notice contains all of the necessary information and forms needed to apply for grant funding. The U.S. Department of Labor (USDOL), Bureau of International Labor Affairs (ILAB), announces the availability of funds to be granted by cooperative agreement to one or more qualifying organizations. USDOL will award up to U.S. $4.5 million through one or more grants to an organization or organizations to improve labor law compliance in the Central American region (Costa Rica, El Salvador, Guatemala, Honduras, and Nicaragua) and the Dominican Republic by strengthening the capacity of local organizations to provide advice to workers about the scope and applicability of relevant labor laws, and when necessary, provide legal services explaining the procedural and documentation requirements to exercise those rights. Proposals must be regional in scope and respond to the entire Statement of Work as contained in Section III, but applicants will not be penalized for lacking previous experience with regional projects. For example, organizations with experience in only one country will be judged based on the success they achieved in that country and their proposal for how they plan to work successfully throughout the rest of the targeted region. Partnerships and Associations between more than one organization are also eligible and encouraged, in particular with qualified, regionally-based organizations in order to build local capacity, although in such a case a lead organization must be identified. The award of any subaward will be subject to USDOL policies and approval (see Section IV).

I. Funding Opportunity Description

The U.S. Department of Labor (USDOL), Bureau of International Labor Affairs (ILAB), announces the availability of funds to be awarded by Cooperative Agreement (hereinafter referred to as “grant” or “Cooperative Agreement”) to one or more qualifying organizations to improve labor law compliance in the Central American region (Costa Rica, El Salvador, Guatemala, Honduras, and Nicaragua) and the Dominican Republic by strengthening the capacity of local organizations to provide advice to workers about the scope and applicability of relevant labor laws, and when necessary, provide legal services explaining the procedural and documentation requirements to exercise those rights. ILAB is authorized to award and administer this program by the Foreign Operations, Export Financing and Related Programs Appropriations Act, 2006, Pub. L. 109-102, 119 Stat. 2172 (2005). Cooperative Agreements awarded under this initiative will be managed by ILAB's Office of Trade and Labor Affairs. The duration of the projects funded by this solicitation is four years. The start date of program activities will be negotiated upon award of the Cooperative Agreement.

Statement of Work

USDOL is seeking qualified organizations that will implement, in partnership with USDOL, a regional project in Central America (Costa Rica, El Salvador, Guatemala, Honduras, and Nicaragua) and the Dominican Republic to improve labor law compliance in these countries by strengthening the capacity of local organizations to provide advice to workers about the scope and applicability of relevant labor laws, and when necessary, provide legal services explaining the procedural and documentation requirements to exercise those rights.

Applicants should submit proposals that are regional in scope and demonstrate the organization's capabilities to implement a project in accordance with the Statement of Work and the selection criteria. Proposals must provide for activities in all countries, and begin the first year at a minimum in El Salvador and Nicaragua. Applicants will not be penalized for lacking previous experience working on regional projects. For example, organizations with experience in only one country will be judged based on the success they achieved in that country and their proposal for working successfully throughout the rest of the targeted region. USDOL encourages applicants to be creative in proposing innovative and cost-effective interventions that will produce a demonstrable and sustainable impact.

Funds will be provided by grant to qualifying organizations. The grant will be actively managed by USDOL/ILAB to assure achievement of the stated project objectives. The award of any sub-contract will be subject to USDOL policies and approval (see Section IV).

Note: Selection of an organization as a grantee does not constitute approval of the grant application as submitted. Before the actual grant is awarded, USDOL may enter into negotiations about such items as program components, funding levels, and administrative systems in place to support grant implementation. If the negotiations do not result in an acceptable submission, the Grant Officer reserves the right to terminate the negotiation and decline to fund the application.

A. Background and Problem Statement

The Central American Free Trade Agreement (CAFTA-DR) between the United States and five Central American countries (Costa Rica, El Salvador, Guatemala, Honduras and Nicaragua) and the Dominican Republic obligates each country to effectively enforce its labor laws. The countries also reaffirm their obligations as members of the International Labor Organization (ILO) and their commitments under the ILO Declaration on Fundamental Principles and Rights at Work and its Follow-Up (1998).

In the Department of State's FY 2006 budget, Congress provided funding for labor and environmental capacity building activities in support of CAFTA-DR. A portion of these funds were transferred to the Department of Labor to administer projects related to labor capacity building in CAFTA-DR countries.

This project provides assistance to improve the effective enforcement of national labor laws by strengthening the capacity of local organizations to provide advice to workers about the scope and applicability of relevant labor laws, and when necessary, provide legal services explaining the procedural and documentation requirements to exercise those rights. The project will work with local organizations to provide assistance to workers with these claims. These organizations will, as much as possible, consult with the Ministries of Labor to ensure correct understanding of the application of the laws, promote information sharing, and build a strategic partnership.

This strategy addresses the concerns that are identified in the April 2005 “White Paper” of the Working Group of the Vice Ministers Responsible for Trade and Labor in the countries of Central America and the Dominican Republic. The White Paper—titled The Labor Dimension in Central America and the Dominican Republic—Building on Progress: Strengthening Compliance and Enhancing Capacity—contains recommendations to strengthen labor law compliance and improve the capacity of labor-related institutions in key areas.

The White Paper provided a regional recommendation to “enhance or establish offices where necessary of special advocates for worker rights who can further assist workers and employers on effective compliance with labor laws.” It also highlighted the budgetary constraints faced by all of the Labor Ministries. This effort will help alleviate the burden on the Ministries by building sustainable alliances with key partners, freeing Ministry resources for more efficient use. The White Paper also highlighted the need for increasing public awareness about legal rights and responsibilities, and how to assert those rights. Current efforts are directed at general awareness raising; this project will provide specific guidance to workers on exercising those rights.

Central American workers surveyed in December 2004 by the Costa Rican firm Demoscopia S.A., as part of the U.S. DOL funded Cumple y Gana project, demonstrated that although some workers are aware of some of their rights generally, they may not understand their precise application. In Nicaragua, people may know about the right to form a union, however, 68.6% thought that all workers in a workplace had to agree before one could be formed. In El Salvador, workers may have been familiar with some of their rights, but 75.4% believed only a written contract guarantees those rights. Further, while 97.7% of those surveyed in Guatemala correctly understood that a pregnant woman has the right to a paid leave before giving birth, a full 86.2.% believed a woman could not be fired during her pregnancy. These types of misperceptions of rights lead to un-actionable claims being presented to the Ministry of Labor or create unrealistic expectations about the role of government.

Additionally, workers often do not understand the procedural and documentation requirements associated with filing a complaint and consequently do not adequately prepare required information prior to accessing the services of the Ministry of Labor. For example, Relacentro, a project funded by the U.S. DOL and implemented by the ILO, conducted diagnostics of the mediation and conciliation process in various Central American countries. In one country, workers who arrived at a certain office of the Ministry of Labor were required to bring a photocopy of their ID card, the ID itself was not sufficient. If they did not have a copy, the Ministry at the time of the diagnostic did not have a copier available to copy it for them. In addition, if workers were fired in written form, they needed to bring the written termination with them. If they were fired verbally, they needed to have a Labor Inspector visit the workplace to verify the termination.

Workers who do not fully understand the requirements and processes are unable to properly exercise their rights and this results in an ineffective use of limited Ministry of Labor resources. This project builds on the significant work being done to raise workers' awareness about their rights, and takes it to the next level by assisting workers to exercise those rights effectively.

B. Target Population

• Workers with questions or concerns about their labor rights.

• Target organizations in urban centers that can build and sustain their capacity to assist workers who have questions or concerns about their labor rights.

Labor Ministries will benefit due to the decrease in time spent with workers who have insufficient documentation/information for a claim or a claim that is not within the purview of the Ministry of Labor.

Grantee(s) and/or subawardees are expected to work with the Labor Ministries as much as possible to share information on a regular basis, receive legal information from the Ministries, and share data on workers' main concerns. The project hopes to promote a productive strategic alliance between the local organizations and the Labor Ministries, each entity helping the other to better fulfill its role.

C. Objectives

The Grantee(s) must implement, in partnership with USDOL, a project whose overarching objective is to improve labor law compliance in Central America (Costa Rica, El Salvador, Guatemala, Honduras, Nicaragua) and the Dominican Republic by strengthening the capacity of local organizations to provide advice to workers about the scope and applicability of relevant labor laws, and when necessary, provide legal services explaining the procedural and documentation requirements to exercise those rights.

D. Relationship to USDOL Program Strategy

By helping to improve labor law compliance in Central America and the Dominican Republic, the proposed project supports achievement of USDOL's Government Performance and Results Act (GPRA) goal (2k), “promote internationally recognized workers rights and labor standards, including those related to the elimination of exploitive child labor, in the global community.” Activities with regard to the elimination of child labor are being funded separately through USDOL's Office of Child Labor, Forced Labor, and Trafficking. Grantees are not expected to develop strategies specific to child labor; however, they are expected to coordinate with USDOL's child labor projects, where applicable.

E. Type of Work To Be Performed/Activities

Applicants are responsible for developing a strategy for successfully achieving the above-stated objectives and addressing the problem(s) identified in the Background and Problem Statement (Section I.A.), developing and implementing the major tasks and activities to be accomplished as part of that strategy, tracking and reporting on progress in achieving the stated objectives, and providing any necessary services. The project strategy(s) must consider the diverse needs and environment of each country.

In order to ensure achievement of the project objectives and respect the most efficient use of the Labor Ministries' time, the Grantee(s) will first coordinate with the USG and other projects beginning in the region to avoid any duplication of efforts and ensure input from Labor Ministries on project designs. In addition, the project must meet with key local stakeholders to further develop the project strategy and Work plan. This strategy must be implemented with local stakeholder guidance.

The project is required to utilize existing training and public awareness materials produced by other USG funded projects, such as Cumple y Gana. USDOL will consider the production of new materials if the Grantee(s) can demonstrate that the existing materials are not sufficient or appropriate for the activity being carried out.

An outline of illustrative activities includes:

i. Year One

• Hire staff and establish office capacity to implement and oversee the project in each country.

• Meet with relevant stakeholders in target communities and further define the project strategy and Work plan.

• Develop curriculum to train organizations on the scope and applicability of labor laws and regulations, legal requirements to substantiate claims, how to best provide service to workers, etc.

• While developing curriculum, coordinate with the Ministry of Labor to ensure materials accurately reflect laws and regulations. If possible, form a working group or otherwise institute regular meetings with local organization and appropriate Ministry of Labor staff.

• Design outreach campaign to make workers aware of organization's informational and legal services.

• Develop data tracking device for use by local organizations to track services provided, concerns raised, etc.

• Train local organization staff on labor laws and services to be provided to workers.

ii. Year Two

• Train local organization staff on laws and services.

• Implement outreach campaign to make workers aware of organization's services.

• Provide advice on labor issues and where relevant, legal services to workers.

• Collect information regarding types of complaints, most common errors/problems with complaints.

iii. Year Three

• Provide advice on labor issues and where relevant, legal services to workers.

• Collect information regarding types of complaints, most common errors/problems with complaints.

• Design outreach campaign, based on first 18 months of receiving workers' concerns, to inform workers regarding their most common concerns and correct the most common errors and/or misperceptions regarding their labor rights and how they are enforced.

• Begin awareness campaign to target these issues/errors.

• Replicate training on how to prepare claims and advise workers from a second round of local organizations.

iv. Year Four

• Conduct outreach campaign to inform workers about most common errors/problems in order to avoid errors, clarify misperceptions.

• Monitor impact of outreach campaign on the changes in workers' most common concerns, errors and misperceptions regarding their labor rights.

• Second round organizations provide services.

• Develop best practices and share on national and regional level.

As much as possible, throughout the life of the project, the Grantee will share information with the Ministry of Labor and ensure accurate message delivery. In addition, wherever possible, the Grantee will share information with the Ministries of Labor about the USDOL Partnerships for Compliance Assistance Program (PCAP), through which partner organizations agree to develop and disseminate USDOL information about compliance and resources, as well as provide informational seminars and workshops on compliance. The nonprofit, third-party membership organizations that participate in PCAP help USDOL educate business owners and workers about available compliance assistance tools and resources.

F. Expected Outcomes/Project Outputs

• Workers better able to exercise their rights.

• Less time lost with workers arriving unprepared at Ministries of Labor with insufficient documentation or justification for their claims.

• Local capacity and partner relationships developed with Ministry of Labor to facilitate access to Labor Ministry enforcement processes.

• Backlog diminished for intake personnel at Ministries of Labor

G. Conditions Precedent

Applicants are requested to indicate in their technical proposal the proposed organizations with which they will work to implement their strategy, and to describe the merits of these organizations, and their relationship with the different stakeholders. Subaward agreements entered into after the Cooperative Agreement is signed, and not proposed in the application, must be awarded through a formal competitive bidding process, unless prior written approval is obtained from USDOL.

II. Award Information

Type of Assistance instrument: Cooperative Agreement. USDOL's involvement in project implementation and oversight is outlined in Section VI.3. The duration of the project(s) funded by this solicitation is up to four (4) years. The start date of program activities will be negotiated upon awarding of the Cooperative Agreement, but will be no later than September 30, 2007.

Up to U.S. $4.5 million will be awarded under this solicitation. USDOL may award more than one Cooperative Agreement to one, several, or a partnership or Association (see Section III) of more than one organization(s) that may apply to implement the program. A Grantee must obtain prior USDOL approval for any subawardee not proposed in the application. See Section IV (E) (3) for further information on subawards.

III. Eligibility Information

A. Eligible Applicants

Any commercial, international, educational, or non-profit organization(s), including any faith-based, community-based, or public international organization(s) with experience effectively implementing projects in the relevant technical field(s) and working with foreign national government ministries, regional and local government entities, employers and employer organizations, workers and labor organizations, and non-governmental and community-based organizations is eligible for this grant(s). Neutral, non-religious criteria that neither favor nor disfavor religion will be employed in the selection of Cooperative Agreement recipients. Applications from foreign government and quasi-government agencies will not be considered. An applicant must demonstrate a country presence, independently or through a relationship with another organization(s) with country presence, which gives it the ability to initiate program activities upon award of the Cooperative Agreement. See Section V (Institutional Qualifications/Past Performance).

If it is deemed the most effective and efficient strategy for achieving the goals outlined in the Scope of Work, USDOL may award one or more Cooperative Agreements to a partnership of more than one organizations. If two or more applicants, who do not constitute a single legal entity (hereinafter referred to as “Associations”), join in applying for an award, each member of the Association (hereinafter referred to as an “Associate”) must be individually eligible for an award. All references to “the Applicant” refer to Associations as well as individual applicants. All Associates must sign, and agree to be bound jointly and severally by, the awarded Cooperative Agreement, and all must designate one Associate as the “Lead.” Any such Association must submit to USDOL, as an attachment to the application, an Association agreement, reflecting an appropriate joint venture, partnership, or other contractual agreement and outlining the deliverables, activities, and corresponding timeline for which each Associate will be responsible. Copies of such agreements will not count toward the page limit.

If any entity identified in the application as an Associate does not sign the Cooperative Agreement, the Lead must provide, within 60 days of award, either a written subaward agreement with such entity, acceptable to USDOL, or an explanation as to why that entity will not be participating in the Cooperative Agreement. USDOL reserves the right to re-evaluate the award of the Cooperative Agreement in light of any such change in an entity's status, and may terminate the award if USDOL deems appropriate.

For the purposes of this proposal and the Cooperative Agreement award, the Lead will be: (1) the primary point of contact with USDOL to receive and respond to all inquiries, communications and orders under the project; (2) the only entity with authority to withdraw or draw down funds through the HHS system; (3) responsible for submitting to USDOL all deliverables, including all technical and financial reports related to the project, regardless of which Associate performed the work; (4) the sole entity to request or agree to a revision or amendment of the award or the project document; and (5) responsible for working with USDOL to close out the project. Note, however, that each Associate is ultimately responsible for overall project performance, regardless of any assignment of specific tasks, but Associates may agree, among themselves only, to apportion the liability for such performance. Each Associate must comply with all applicable federal regulations, and is individually subject to audit.

In accordance with 29 CFR Part 98, entities that are debarred or suspended from receiving Federal contracts or grants shall be excluded from Federal financial assistance and are ineligible to receive funding under this solicitation.

B. Cost Sharing or Matching Funds

This solicitation does not require applicants to share costs or provide matching funds. However, the leveraging of resources and in-kind contributions is strongly encouraged and is a rating factor worth up to five (5) additional points see Section V (Leveraging of Grants Funds).

C. Dun and Bradstreet Number

The organizational unit section of Block 8 of the SF-424 must contain the Dun and Bradstreet Number (DUNS) of the applicant. Beginning October 1, 2003, all applicants for Federal grant funding opportunities are required to include a DUNS number with their application. See OMB Notice of Final Policy Issuance, 68 FR 38402 (June 27, 2003). Applicants' DUNS number is to be entered into Block 8 of SF-424. The DUNS number is a nine-digit identification number that uniquely identifies business entities. There is no charge for obtaining a DUNS number. To obtain a DUNS number call 1-866-705-5711 or access the following Web site: http://www.dunandbradstreet.com/.

Requests for exemption from the DUNS number requirement must be made to the Office of Management and Budget. If no DUNS number is provided without such an exemption then the grant application will be considered non-responsive.

After receiving a DUNS number, all grant applications must also register as a vendor with the Central Contractor Registration (CCR) through the following Web site: http:www.ccr.gov or by phone at 1-888-227-2423. CCR registration should become active within 24 hours of completion. If grant applicants have questions regarding registration, please contact the CCR Assistance Center at 1-888-227-2423. After registration, grant applicants will receive a confirmation number. The Grantee listed as the Point of Contact will receive a Trader Partnership Identification Number (TPIN) via mail. The TPIN is, and should remain, a confidential password.

IV. Application and Submission Information

A. Application Package

This solicitation contains all of the necessary information and forms needed to apply for Cooperative Agreement funding. This solicitation is published as part of this Federal Register notice. Additional copies of the Federal Register may be obtained from your nearest U.S. Government office or public library or online at http://www.archives.gov/federal_register/index.html.

B. Content and Form of Application Submission

Applicants must submit one (1) blue ink-signed original, complete application in English plus two (2) copies of the application to the U.S. Department of Labor, Procurement Services Center, 200 Constitution Avenue, NW., Room N-5416, Washington, DC 20210, no later than 4:45 p.m. Eastern Time on the established due date. To aid with review of applications, applicants may elect to submit three (3) additional paper copies of the application (five total). Applicants who do not provide additional copies will not be penalized.

The application must consist of two (2) separate parts. Part I of the application must contain the Standard Form (SF) 424, “Application for Federal Assistance” and sections A-F of the Budget Information Form SF 424A (see Appendix A). These forms are also available at http://www.whitehouse.gov/omb/grants. Part II must contain a technical proposal that demonstrates capabilities in accordance with the Statement of Work (Section III) and the selection criteria (Section V). The application should include the name, address, telephone and fax numbers, and e-mail address (if applicable) of a key contact person at the applicant's organization in case questions should arise.

To be considered responsive to this solicitation, the application must consist of the above-mentioned separate sections, with Part II not to exceed 45 single-sided (8½″ × 11″ or A4), double-spaced, 12-point font, typed pages. Major sections and sub-sections of the application should be divided and clearly identified (e.g., with tab dividers), and all pages must be numbered. Applicants are required to propose that a project address the project objectives identified in the Statement of Work in Section I. Any applications that do not conform to these standards may be deemed non-responsive to this solicitation and may not be evaluated. The application must include a table of contents and an abstract summarizing the application in not more than two (2) pages. Standard forms, attachments, résumés, exhibits, letters of support, and the abstract are not counted towards the page limit. If an applicant exceeds the stated page limit, the review panel has the discretion to deduct 10 points.

Upon completion of negotiations, the individual signing the SF 424 on behalf of the applicant must be authorized to bind the applicant.

C. Submission Dates, Times, and Address

The grant application package must be received at the designated place 45 days after publication, or it will not be considered. Applications sent by e-mail, telegram, or facsimile (FAX) will not be accepted. Applications sent by other delivery services, such as Federal Express, UPS, etc., will be accepted; the applicant, however, bears the responsibility for timely submission. Applications that do not meet the conditions set forth in this notice will not be honored. No exceptions to the mailing, delivery, and hand-delivery conditions set forth in this notice will be granted.

Any application received at the Office of Procurement Services after 4:45 pm Eastern Time after 45 days of publication will not be considered unless it is received before the award is made and:

• It was sent by registered or certified mail no later than the fifth calendar day before the closing date; or

• It was sent by U.S. Postal Service Express Mail/Next Day Service from the post office to the addressee no later than 5 p.m. at the place of mailing two (2) working days (excluding weekends and Federal holidays), prior to the closing date; or

• It is determined by the USG that the late receipt was due solely to mishandling by the USG after receipt at the USDOL at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the date of mailing of a late application sent by U.S. Postal Service Express Mail/Next Day Service from the post office to the addressee is the date entered by the Post Office receiving clerk on the “Express Mail/ Next Day Service—Post Office to Addressee” label and the postmark on the envelope or wrapper on the original receipt from the U.S. Postal Service. “Postmark” has the same meaning as defined above. Therefore, applicants should request that the postal clerk place a legible hand cancellation “bull's-eye” postmark on both the receipt and the envelope or wrapper.

The only acceptable evidence to establish the time of receipt at the USDOL is the date/time stamp of the Procurement Service Center on the application wrapper or other documentary evidence or receipt maintained by that office.

All applicants are advised that U.S. mail delivery in the Washington DC area has been slow and erratic due to concerns involving anthrax contamination. Applicants must take this into consideration when preparing to meet the application deadline. It is recommended that you confirm receipt of your application with your delivery service from Lisa Harvey (see Section VII for contact information).

Applicants may also apply online at www.grants.gov. Applicants submitting proposals online are requested to refrain from mailing a hard copy application as well. It is strongly recommended that applicants using www.grants.gov immediately initiate and complete the “Get Started” registration steps at http://www.grants.gov/GetStarted. These steps may take multiple days to complete, and this time should be factored into plans for electronic submission in order to avoid facing unexpected delays that could result in the rejection of an application. If submitting electronically through www.grants.gov, applicants must save the application document as a .doc, .pdf, .txt or .xls file.

Any application received on grants.gov after the deadline will be considered as non-responsive and will not be evaluated.

D. Intergovernmental Review

This funding opportunity is not subject to Executive Order 12372, “Intergovernmental Review of Federal Programs”

E. Funding Restrictions, Unallowable Activities, and Specific Prohibitions

In addition to those specified under OMB Circular A-122, the following costs and activities are also unallowable or contain specific restrictions:

1. Pre-Award Costs

Pre-award costs are not reimbursable.

2. Alternative Income-Generating Activities

USDOL funds awarded under all USDOL Cooperative Agreements may not be used to provide micro-credits, revolving funds, or loan guarantees. Permissible costs related to alternative income-generating activities for workers may include, but are not limited to, vocational or skills training, incidental tools and equipment, guides, manuals, and market feasibility studies. USDOL reserves the right to negotiate the exact nature, form, or scope of alternative income-generating activities and to approve or disapprove these activities at any time after award of the Cooperative Agreement.

3. Subawards to Organizations, Groups, and/or Persons

Grantees may procure sub-contracts or sub-grants with other organizations to fulfill the purpose and activities of the Cooperative Agreement award. Subawards may be included as a budget line item. Subawards must be awarded in accordance with 29 CFR 95.40-48 and are subject to audit, in accordance with the requirements of 29 CFR 95.26(d). Subawards awarded after the Cooperative Agreement is signed, and not proposed in the application, must be awarded through a formal competitive bidding process, unless prior written approval is obtained from USDOL. In addition, all subawards are subject to the restrictions and prohibitions related to prostitution, inherently religious activities, and terrorism as outlined in this section (6-8). Detailed information on subawards should be provided during the project document review process. Copies of all subawards above $100,000 must be provided to USDOL prior to implementation of the contract.

4. Lobbying or Fund-Raising the U.S. Government With Federal Funds

Under the Cooperative Agreements, no activity, including awareness raising and advocacy activities, may include fund-raising, or lobbying of any government entities (see OMB Circular A-122). Cooperative Agreement Applicants Classified Under The Internal Revenue Code as A 501(c)(4) ENTITY (see 26 U.S.C. 501(c)(4)), may not engage in lobbying activities. According to the Lobbying Disclosure Act of 1995, as codified at 2 U.S.C. 1611, an organization, as described in Section 501(c)(4) of the Internal Revenue Code of 1986, that engages in lobbying activities directed toward the USG will not be eligible for the receipt of Federal funds constituting an award, grant, Cooperative Agreement, or loan.

5. Funds To Host Country Governments

USDOL funds awarded under this solicitation are not intended to duplicate or substitute for host-country government efforts or resources. Therefore, in general, Grantees may not provide any of the funds obligated under the Cooperative Agreement to foreign government entities, ministries, officials, or political parties. However, subcontracts with foreign government agencies may be awarded to provide direct services or undertake project activities subject to applicable laws and only after a competitive procurement process has been conducted and no other entity in the country is able to provide these services. Grantees must receive prior USDOL approval before subcontracting to foreign government agencies for the provision of direct educational services.

6. Prostitution

The USG is opposed to prostitution and related activities, which are inherently harmful and dehumanizing, and contribute to the phenomenon of trafficking in persons. U.S. non-governmental organizations, and their subawardees, cannot use USG funds to lobby for, promote or advocate the legalization or regulation of prostitution as a legitimate form of work. Foreign non-governmental organizations, and their subawardees, that receive USG funds cannot lobby for, promote or advocate the legalization or regulation of prostitution as a legitimate form of work; this includes organizations receiving both general and trafficking-related grants. It is the responsibility of the Grantee(s) to ensure its subawardees meet these criteria.

7. Inherently Religious Activities

The USG is generally prohibited from providing direct financial assistance for inherently religious activities. Federal funds provided under a USDOL-awarded Cooperative Agreement may not be used for religious instruction, worship, prayer, proselytizing or other inherently religious activities. Neutral, non-religious criteria that neither favor nor disfavor religion must be employed by the Grantee in the selection of subawardees. This provision must be included in all subawards issued under the Cooperative Agreement.

8. Terrorism

Applicants are reminded that U.S. Executive Orders and U.S. law prohibit transactions with, and the provision of resources and support to, individuals and organizations associated with terrorism. It is the legal responsibility of Grantees to ensure compliance with these Executive Orders and laws. This provision must be included in all subawards issued under the Cooperative Agreement.

V. Application Review Information

USDOL will screen all applications to determine whether all required elements are present and clearly identifiable, including the technical proposal, cost proposal, recent audits, partnership agreements where applicable, the Curricula Vitae of key personnel, and personnel agreements. A Technical Panel will objectively rate each complete application against the criteria described in this announcement. The panel recommendations to the Grant Officer are advisory in nature. The Grant Officer may elect to select one or more Grantees on the basis of the initial proposal submission, or the Grant Officer may establish a competitive or technically acceptable range for the purpose of selecting qualified applicants. If deemed appropriate, following the Grant Officer's call for the preparation and receipt of final revisions of proposals, the evaluation process described above will be repeated to consider such revisions. The Grant Officer will make a final selection determination based on what is most advantageous to the USG, considering factors such as panel findings based on the criteria listed below and the best value to the government, cost, and other factors. The Grant Officer's determination for award under this solicitation is final.

A. The Review Process

The criteria below will serve as the basis upon which submitted applications will be evaluated. Technical aspects of the application will constitute 100 points of the total evaluation. Up to five (5) additional points will be given for leveraging non-Federal resources.

In order to assist USDOL in assessing the efficient and effective allocation of project funding, the Applicant must submit a project budget that clearly details the costs for performing all of the requirements presented in this solicitation, including producing all deliverables, reporting on implementation and progress, and monitoring progress. A sample budget is included with the ProDoc in Section II. The budget does not count against the page limit. Applicants are reminded to budget for compliance with the administrative requirements set forth (copies of all regulations referenced in this solicitation are available at no cost, on-line, at http://www.dol.gov). This includes the costs of performing activities such as travel to Washington, DC to meet with USDOL/ILAB, financial audit, project closeout, project evaluation, document preparation (e.g., progress reports, project document), and ensuring compliance with procurement and property standards. The Project Budget must identify administrative costs separately from programmatic costs. In addition to the costs identified previously, administrative costs include indirect costs from the costs pool and the cost of activities, materials (e.g., project car), and personnel (e.g., administrative assistants, office drivers) that support the management and administration of the project but do not provide direct services to project beneficiaries.

• Technical Approach—65 points

The extent to which the application sets forth a clear and supportable course of action to improve labor law compliance in Central America (Costa Rica, El Salvador, Guatemala, Honduras, and Nicaragua) and the Dominican Republic by strengthening the capacity of local organizations to provide advice to workers about the scope and applicability of relevant labor laws, and when necessary, provide legal services explaining the procedural and documentation requirements to exercise those rights.

In developing the strategy, applicants are expected to take into consideration the following issues:

• The level of technical assistance that Central American Ministries of Labor have received in the past five (5) years and continue to receive from bilateral donors and international organizations;

• The need to ensure that the project strategy is consistent with any national strategy to increase labor law compliance.

• The need to sustain project improvements, including retaining the new knowledge and practices of project-trained local staff.

• The need to engage local stakeholders in the design and implementation of the project strategy.

• The need for ongoing information exchange with the Ministries of Labor.

Points

Applicants will be evaluated on the clear identification and description of the specific strategy(s) the applicant proposes to use and the effectiveness and attainability of project objectives by the end of the grant period. Proposals should include work plans that are practical, manageable, and can achieve project results. Applicants must include an implementation plan that lists a schedule of activities and list of deliverables that would be completed by the Grantee each quarter. The strategy must include a sustainability plan outlining clearly how the project activities will be sustained when the project has been completed. (15 points)

Applicants must demonstrate familiarity with the major issues related to the components being addressed (e.g., labor laws, providing assistance to workers, conducting training, building networks, outreach and informational campaigns), key problems and/or needs in the relevant country/area, the specific problem(s) and/or need(s) that will be addressed by this project(s), and relevant constraints. Applicants will be evaluated on the thorough and accurate assessment of the implementing environment and the problems that exist and clear identification of the specific problem(s) the applicant proposes to address. (10 points)

Applicants must provide a monitoring and evaluation plan for measuring project performance that includes challenging but realistic targets and measurable, verifiable project indicators that measure achievement of project objectives and performance in project implementation. The plan should show how the information and data will be collected and what systems will be put in place for self-assessment, monitoring, and continuous improvement. (5 points)

Applicants must provide a description of the proposed approach to expending funds in the most cost-effective method possible in order to achieve the project objectives. Applicants must submit an Outputs-based Budget, a sample of which is provided in Annex 1. Applicants must refer to the submitted budget in explaining how the budgeted funds will be utilized cost-effectively. In order to assist USDOL in assessing the efficient and effective allocation of project funding, the applicant must submit, at minimum, supporting budget information indicating how the applicant arrived at estimating the costs of the following items/activities: salaries and benefits for all key personnel; 2-3 key activities proposed by the applicant under its project design; and meeting all USDOL close-out requirements. Applicants will be evaluated based on the clear identification of all project costs and efficient and effective allocation of funding. The project budget should clearly demonstrate that the total amount and distribution of funds is sufficient to cover the cost of all major project activities identified by the Applicant in its proposal, management of the project, monitoring and evaluation, and project close-out and that the distribution of funds maximizes the provision of goods and/or services to project beneficiaries. Higher ratings may be given to applicants with low administrative costs and with a budget breakdown that provides a larger amount of resources to project activities. The Grant Officer reserves the right to negotiate administrative cost levels prior to award. Indirect cost charges should be based on allowable, allocable, and reasonable costs based on the applicable cost principles included in the OMB Circular A-122 and Indirect Charges Instructions included in Annex 2. This section will be evaluated in accordance with applicable Federal laws and regulations. Applicants should submit output-based budgets. A sample of an output-based budget format is included in Annex 1. The budget must comply with Federal cost principles (which can be found in the applicable OMB Circulars) and with ILAB budget requirements contained in the application instructions in Section VI of this solicitation. Applicants must also be required to include an indirect cost certification, the SF 424, SF 424A, and the Equal Employment Opportunity survey. (15 points)

Applicants must demonstrate the use of existing expertise from the recipient country in order to reduce costs and further develop local capacity. The proposal should identify organizations to carry out the work in each country. Local organizations will be rated on:

• Experience providing training and/or services to workers.

• Experience working with Labor Ministries, unions, and employer associations.

• Experience working on labor issues of the country.

• Ability to implement activities in a timely fashion.

Applicants are requested to provide in their technical proposal proposed organizations and the merits of those organizations, experience in the areas outlined above, and their relationship with the different stakeholders. (15 points)

Applicants are requested to submit a schedule of quarterly deliverables that will serve to determine the level of performance of the contractor. The identification of deliverables that are presented in the proposal should be objective, verifiable, and demonstrate progress in achieving project objectives. (5 points)

• Institutional Qualifications/Past Performance—20 points

Applicants will be evaluated on their prior experience of all organizations, including both prime and sub-awardees, in designing and implementing activities in developing countries, especially in Central America, related to labor law compliance.

Applicants must include information as an attachment (that will not count towards the page limit) regarding previous grants or contracts including: (a) the organization for which the work was done; (b) a contact person in that organization with his/her current phone number; (c) the dollar value of the grant or contract for the project(s); (d) the time frame and professional effort, either directly by key personnel, by consultants, or under contractual arrangements involved in the project(s); (e) a brief summary of the work performed; and (f) a brief summary of accomplishments. (10 points)

Applicants will be evaluated on their demonstration of strong financial management and internal control systems. If the applicant is a U.S.-based, non-profit organization already subject to the single audit requirements, the applicant's most recent single audit, as submitted to the Federal Audit Clearinghouse, must accompany the application as an attachment. In addition, applications must show that they have complied with report submission timeframes established in OMB Circular A-133. If an applicant is not in compliance with the requirements for completing their single audit, the application will be considered nonresponsive and will be rejected. If the applicant is a for-profit or foreign-based organization, a copy of its most current independent financial audit must accompany the application as an attachment. Applicants must also submit a copy of the most recent single audit report for all proposed U.S.-based, non-profit partners, Associates and sub-awardees that are subject to the Single Audit Act. If the proposed Associate(s) or partner(s) is a for-profit or foreign-based organization, a copy of its most current independent financial audit should accompany the application as an attachment. If the audit submitted by the applicant reflects any adverse opinions, the application will not be further considered by the technical review panel and will be rejected. USDOL reserves the right to ask further questions on any audit report submitted as part of an application. USDOL also reserves the right to place special conditions on Grantees if concerns are raised in their audit reports. In order to expedite the screening of applications and to ensure that the appropriate audits are attached to the proposals, the applicant must provide a cover sheet to the audit attachments listing all proposed partners and sub-awardees. These attachments will not count toward the application page limit. (10 points)

• Experience of Personnel/Management Plan—15 points

Applicants will be evaluated on their inclusion of key personnel with prior experience directly related to the proposed work, including technical and language qualifications, professional competence, relevant academic background, and demonstrated experience. Applicants must submit a résumé for each key personnel proposed, which includes the individual's current employment status and previous work experience, including position title, duties performed, salary history, dates in position, employing organizations, and educational background. Duties must be clearly defined in terms of role performed (i.e., manager, team leader, consultant). Résumés must be included as attachments, which do not count against the page limitation. Management and professional technical staff members comprising the applicant's proposed team must be individuals who have prior experience with organizations working in similar efforts, and who are fully qualified to perform the work specified in the Scope of Work. (10 points)

Successful performance of the proposed work depends heavily on the management of the project. Accordingly, in its evaluation of each application, USDOL will place emphasis on the applicant's management approach involved in accomplishing the assigned tasks. This section of the application must include sufficient information to judge management and staffing plans. Where subawards, or outside assistance are proposed, organizational lines of authority and responsibility should be clearly delineated to ensure responsiveness to the needs of USDOL. (5 points)

• Leveraging of Grant Funding—5 points

USDOL will award up to five (5) additional rating points to applications that include non-Federal resources that significantly expand the size and scope of project-related activities. These programs must not be financed by the project, but can complement and enhance project objectives. To be eligible for the additional points, the applicant must list the resource(s), the nature, and possible activities anticipated and any partnerships, linkages, or coordination of activities, cooperative funding, etc., including the specific value of such contributions.

• Suggested Outline for Technical Proposal

This outline is provided as a guideline. Organizations may elect a format of their choosing, subject to the requirements of this announcement.

i. Executive Summary

ii. Program Description

iii. Goal and Objectives

iv. Background

v. Technical Approach and Implementation Timetable (Proposed Intervention)

vi. Monitoring and Evaluation Plan

vii. Experience of Personnel

viii. Identification of Deliverables and Quarterly Schedule of their submission to determine contractor performance

ix. Staffing Pattern and Project Management Organizational Chart

x. Leveraging of non-Federal Resources

xi. Budget

xii. Attachments:

• Summaries of other relevant organizational experiences

• Résumés of key personnel and signed letters of commitment to the project

• Audit reports

Successful proposals submitted in response to this solicitation will be incorporated into the text of the grant with the selected applicant(s).

VI. Award Administration Information

1. Award Notices

The Grant Officer will notify applicants of designation results as follows:

Designation Letter: The designation letter signed by the Grant Officer will serve as official notice of an organization's designation. The designation letter will be accompanied by a Cooperative Agreement and ILAB's Management Procedures and Guidelines (MPG).

Non-Designation Letter: Any organization not designated will be notified formally of the non-designation and given the basic reasons for the determination. Notification of designation by a person or entity other than the Grant Officer is not valid.

2. Administrative and National Policy Requirements

A. General

Grantees are subject to applicable U.S. Federal laws (including provisions of appropriations law) and regulations, Executive Orders, applicable OMB Circulars, and USDOL policies. If during project implementation a Grantee is found in violation of USG laws and regulations, the terms of the Cooperative Agreement awarded under this solicitation may be modified by USDOL, costs may be disallowed and recovered, the Cooperative Agreement may be terminated, and USDOL may take other action permitted by law. Determinations of allowable costs will be made in accordance with the applicable U.S. Federal cost principles.

B. Audits

After award, Grantees must also submit an annual independent audit regardless of grant amount.

i. For U.S. based non-profit organizations expending $500,000 or more in a year in Federal awards: a “single” or “program specific” audit conducted under the provisions of OMB Circular A-133 is required.

ii. For all other organizations (including foreign-based and private for-profit grantees): an audit conducted in accordance with the U.S. Government Accountability Office's (GAO) “Government Auditing Standards” is required. The audit must address the following:

(a) Compliance with the Department's regulations and the provisions of the Cooperative Agreement; and

(b) Reliability of the organization's financial and performance reports.

Costs for audits or attestation engagements should be included in direct or indirect costs, whichever is appropriate.

Please Note: USDOL generally allows the costs to be allocated based on the following (applicable to U.S. based agencies only): (1) A-133 “single audit” costs as part of the indirect cost rate/pool for organizations with more than one Federal source of funding. Organizations with only one Federal source could charge the A-133 single audit cost as direct costs; (2) A-133 “compliance supplement” costs—as direct costs for Federal sources only through a cost allocation methodology approved by the Federal cognizant agency; or (3) A-133 program specific audits as direct costs. Any deviations from the above must be explained and justified in the application.

C. Administrative Standards and Provisions

The Cooperative Agreements awarded under this solicitation are subject to the following administrative standards and provisions, and any other applicable standards that come into effect during the term of the Cooperative Agreement, if applicable to a particular Grantee:

i. 29 CFR Part 2 Subpart D—Equal Treatment in Department of Labor Programs for religious Organizations; Protection of Religious Liberty of Department of Labor Social Service Providers and Beneficiaries.

ii. 29 CFR Part 31—Nondiscrimination in Federally Assisted Programs of the Department of Labor— Effectuation of Title VI of the Civil Rights Act of 1964.

iii. 29 CFR Part 32—Nondiscrimination on the Basis of Handicap in Programs and Activities Receiving or Benefiting from Federal Financial Assistance.

iv. 29 CFR Part 33—Enforcement of Nondiscrimination on the Basis of Handicap in Programs or Activities Conducted by the Department of Labor.

v. 29 CFR Part 35—Nondiscrimination on the Basis of Age in Programs or Activities Receiving Federal Financial Assistance from the Department of Labor.

vi. 29 CFR Part 36—Federal Standards for Nondiscrimination on the Basis of Sex in Education Programs or Activities Receiving Federal Financial Assistance.

vii. 29 CFR Part 93—New Restrictions on Lobbying.

viii. 29 CFR Part 95—Uniform Administrative Requirements for Grants and Agreements with Institutions of Higher Education, Hospitals and other Non-Profit Organizations, and with Commercial Organizations, Foreign Governments, Organizations Under the Jurisdiction of Foreign Governments and International Organizations.

ix. 29 CFR Part 96—Federal Standards for Audit of Federally Funded Grants, Contracts and Agreements.

x. 29 CFR Part 98—Federal Standards for Government-wide Debarment and Suspension (Nonprocurement) and Government-wide Requirements for Drug-Free Workplace (Grants).

xi. 29 CFR Part 99—Federal Standards for Audits of States, Local Governments, and NonProfit Organizations.

Copies of all regulations referenced in this solicitation are available at no cost, on-line, at http://www.dol.gov.

D. Key Personnel

As noted in Section V, the applicant must list all key personnel candidates. After the Cooperative Agreement has been awarded and throughout the life of the project, the Grantee agrees to inform the Grant Officer's Technical Representative (GOTR) whenever it appears impossible for key personnel to continue work on the project as planned. The Grantee must nominate, through the submission of a formal project revision, new personnel; however, the Grantee must obtain approval from the Grant Officer before all changes to key personnel are formalized. If the Grant Officer is unable to approve the key personnel change, she or he reserves the right to terminate the Cooperative Agreement or disallow costs.

E. Encumbrance of Grant Funds

Grant funds may not be encumbered/obligated by the Grantee(s) before or after the period of performance. Encumbrances/obligations outstanding as of the end of the grant period may be liquidated (paid out) after the end of the grant period. Such encumbrances/obligations may involve only commitments for which a need existed during the grant period and which are supported by approved contracts, purchase orders, requisitions, invoices, bills, or other evidence of liability consistent with the Grantee's purchasing procedures and incurred within the grant period. All encumbrances/ obligations incurred during the grant period must be liquidated within 90 days after the end of the grant period, if practicable.

F. Acknowledgement on Printed Materials

In all circumstances, the following shall be displayed on printed materials: Preparation of this item was funded by the United States Department of Labor under Grant No. [insert the appropriate grant number]” In addition, the Grantee is required to include a disclaimer in publications and materials that have been directly funded by USDOL as follows: This (* * *) does not necessarily reflect the views or policies of the United States Department of Labor, nor does the mention of trade names, commercial products, or organizations imply endorsement by the United States Government. This acknowledgement and disclaimer must be included in documents (reports and other materials) produced, edited and published for distribution beyond the Grantee and USDOL (i.e., to other donors, organizations, or the general public).

When issuing statements, press releases, requests for proposals, bid solicitations, and other documents describing projects or programs funded in whole or in part with Federal money, all Grantees receiving Federal funds must clearly state:

• The percentage of the total costs of the program or project that will be financed with Federal money;

• The dollar amount of Federal funds for the project or program; and

• The percentage and dollar amount of the total costs of the project or program that will be financed by non-governmental sources.

G. Use of the USDOL Logo

In consultation with ILAB, the Grantee(s) will acknowledge USDOL's role in one of the following ways:

• The USDOL logo may be applied to USDOL-funded material prepared for public distribution, including posters, videos, pamphlets, research documents, national survey results, impact evaluations, best practice reports, and other publications of public interest. The Grantee(s) must consult with USDOL on whether the logo may be used on any such items prior to final draft or final preparation for distribution. In no event shall the USDOL logo be placed on any item until USDOL has given the Grantee written permission to use the logo on the item.

• All documents should include the following notice: “This document does not necessarily reflect the views or policies of the U.S. Department of Labor, nor does mention of trade names, commercial products, or organizations imply endorsement by the U.S. Government.”

H. Privacy and Freedom of Information

Any information submitted in response to this solicitation will be subject to the provisions of the Privacy Act and the Freedom of Information Act, as appropriate.

I. Site Visits

USDOL, through its authorized representatives, has the right, at all reasonable times, to make site visits to review project accomplishments and management control systems and to provide such technical assistance as may be required. If USDOL makes any site visit on the premises of the Grantee or a subawardee(s) under this grant, the Grantee must provide and must require its subawardee(s) to provide all reasonable facilities and assistance for the safety and convenience of the Government representatives in the performance of their duties. All site visits and evaluations will be performed so as not to unduly delay the work.

3. Reporting and Deliverables

Guidance on USDOL procedures and management requirements will be provided to Grantees in the Management Procedure Guidelines with the Cooperative Agreement. Unless otherwise indicated, a Grantee must submit copies of all required reports and deliverables to USDOL by the specified due dates. Exact timeframes for the completion of deliverables will be addressed in the Cooperative Agreement and the MPGs. Specific deliverables are outlined below.

A. Required Deliverables

Following the award of the grant, the Grantee(s) shall collaborate with USDOL/ILAB to:

• Develop a Project Document (including a project budget) that will set the technical parameters and provide guidance to the project. It must include all information and be prepared according to the standardized format outlined by USDOL. While the applicant's original proposal will serve as the basis of the Project Document, in every case USDOL has found it advantageous to visit the field and reach consensus on the project strategy with host country counterparts in order to further inform the project design. USDOL may choose to participate on these field visits. USDOL must receive a draft of the Project Document 45 days after returning from travel to the relevant area(s). The Project Document must be finalized no later than 30 days after receipt of USDOL comments on the draft.

• Establish a Work plan identifying major project activities, deadlines for their completion, and person(s) responsible for completing these activities (within 60 days after the Project Document is finalized).

• Set project indicators, including indicators that support ILAB's GPRA goal: “Improve living standards and conditions of work for workers in developing and transition countries.” (within 90 days of finalizing the Project Document).

• Create a Performance Monitoring Plan (PMP) to establish the data needed to measure achievement of project indicators and the methods for collection and reporting. It should include all information and be prepared according to the standardized format outlined by USDOL (within 90 days of finalizing the Project Document).

B. Required Reporting

• The Grantee(s) must submit financial reports on a quarterly basis. The first reporting period ends on the last day of the fiscal quarter (December 31, March 31, June 30, or September 30) during which the grant was signed. The Grantee(s) must use Standard Form (SF) 269A, Financial Status Report, to report the status of the funds, at the project level, during the grant period. A final SF269A must be submitted no later than 90 days following completion of the grant period. If the Grantee(s) uses the U.S. Department of Health and Human Services Payment Management System (HHS PMS), it shall also send USDOL copies of the PSC 272 that it submits to HHS, on the same schedule. Otherwise, the Grantee(s) must submit Standard Form (SF) 272, Federal Cash Transactions Report, on the same schedule as the SF269A. Financial reports are due within 30 days of the end of the reporting period (i.e., by April 30, July 30, October 30, and January 30).

Technical Reporting Requirements

• After signing the agreement, the Grantee(s) must submit progress reports to USDOL/ILAB at the end of each fiscal quarter. The first reporting period ends on the last day of the fiscal quarter (December 31, March 31, June 30, or September 30) during which the Grant was signed. Between reporting dates, the Grantee(s) must also immediately inform USDOL/ILAB of significant developments and/or problems affecting the organization's ability to accomplish work. The Grantee(s) must submit two types of progress reports according to the standardized format used by USDOL/ILAB.

VII. Agency Contacts

All inquiries regarding this solicitation should be directed to: Ms. Lisa Harvey, U.S. Department of Labor, Procurement Services Center, 200 Constitution Ave, NW., Room N-5416, Washington DC 20210; telephone (202) 693-4570 (this is not a toll-free number) or e-mail: harvey.lisa@dol.gov.

Successful proposals submitted in response to this SGA will be incorporated into the text of the grant with the selected applicant(s).

Lisa Harvey,
Grant Officer.

BILLING CODE 4510-28-P

[FR Doc. E6-22454 Filed 1-8-07; 8:45 am]

BILLING CODE 4510-28-C